DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of two individuals whose property and interests in property have been unblocked pursuant to the Foreign Narcotics Kingpin Designation Act (“Kingpin Act”) (21 U.S.C. 1901-1908, 8 U.S.C. 1182).

DATES: The unblocking and removal from the list of Specially Designated Nationals and Blocked Persons (“SDN list”) of the two individuals identified in this notice whose property and interests in property were blocked pursuant to the Kingpin Act, is effective on June 10, 2010.

FOR FURTHER INFORMATION CONTACT: Assistant Director, Compliance Outreach & Implementation, U.S. Department of the Treasury, Office of Foreign Assets Control, Washington, DC 20220, tel.: 202/622-2420.

SUPPLEMENTARY INFORMATION: Electronic and Facsimile Availability. This document and additional information concerning OFAC are available from OFAC's Web site (http://www.treas.gov/ofac) via facsimile through a 24-hour fax-on-demand service at (202) 622-0077.

Background. On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, that is owned or controlled by significant foreign narcotics traffickers, as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On June 10, 2010, OFAC removed from the SDN list the two individuals listed below, whose property and interests in property were blocked pursuant to the Kingpin Act.

1. Carrillo Rodriguez, Luis Miguel, c/o VUELA PERU S.A.C., Lima, Peru; Orion 130, Ventanilla Naval, Callao, Peru; DOB 01 Dec 1961; LE Number 25693716 (Peru) (individual) [SDNTK].

2. Flores Monroy, Julio Cesar (a.k.a. Flores, Julio C.), C. Azteca 0, Col. Azteca, Tijuana, Baja California CP 22000, Mexico; Calle Granito No. 2025, Seccion El Dorado, Fraccionamiento Playas de Tijuana, Tijuana, Baja California, Mexico; Calle Granito No. 602, Seccion El Dorado, Fraccionamiento Playas de Tijuana, Tijuana, Baja California, Mexico; c/o Kontroles Electronicos De Baja California, S.A. DE C.V., Ave. Azueta 11750, Col. Libertad, Tijuana, Baja California CP 22400, Mexico; c/o Accesos Electronicos, S.A. DE C.V., Calle David Alfaro Siqueiros 2789 #201, Col. Zona Rio, Tijuana, Baja California, Mexico; DOB 13 Jul 1944; POB Guadalajara, Jalisco, Mexico; Immigration No. A07268659 (United States) (individual) [SDNTK].

Dated: June 10, 2010.
Adam J. Szubin,
Director, Office of Foreign Assets Control.

[FR Doc. 2010-14503 Filed 6-18-10; 8:45 am]

BILLING CODE 4811-45-P